DEPARTMENT OF ENERGY

Federal Energy Regulatory Commission

[Docket No. RM03-8-001]

Quarterly Financial Reporting and Revisions to the Annual Reports; Notice Granting Extension of Time

June 22, 2004.

1. The Federal Energy Regulatory Commission published in the Federal Register of February 26, 2004, Order No. 646, a Final Rule amending the Commission's financial reporting regulations establishing new quarterly financial reporting for respondents that currently file Annual Reports with the Commission.¹ These new quarterly financial reports are the FERC Form No. 3-Q, Quarterly Financial Report of Electric Companies, Licensees, and Natural Gas Companies, and the FERC Form No. 6-Q, Quarterly Financial Report of Oil Pipeline Companies.

¹ Quarterly Financial Reporting and Revisions to the Annual Reports, Order No. 646, 69 FR 9030 (Feb. 26, 2004), III FERC Stat. & Regs. ¶ 31,158 (Feb. 11, 2004).

2. On June 10, 2004, the Edison Electric Institute (EEI) and the Interstate Natural Gas Association of America (INGAA) filed a joint motion for an extension of the deadlines for submitting the first two quarterly financial reports required by the Commission in the Final Rule. EEI and INGAA state that the software needed to file the new quarterly financial reports is not expected to be released for general use until June 30, 2004, which will leave filers only nine days from the current July 9, 2004 filing date. Additionally, they state that additional time would be needed for filers to familiarize themselves with the software, prepare electronic copies of the quarterly reports, have the reports internally reviewed, approved and filed.

3. At a minimum EEI and INGAA request an extension of the filing deadline for first quarterly report to August 23, 2004, and an extension of the filing deadline for the second quarterly report to September 23, 2004. They state these dates would space the first FERC reports two weeks away from the U.S. Securities and Exchange Commission's August 9, 2004 deadline, and space the two FERC reports a month apart.

4. Based on the above, filing dates for the first two quarterly financial reports for all respondents are extended as shown in the tables below:

Extension of Filing Dates for Major Electric and Natural Gas Companies
| Quarterly period | Filing dates for major electric and natural gas respondents in final rule | Filing extension for major electric and natural gas respondents
1 | 1/1/2004-3/31/2004 | July 9, 2004 | August 23, 2004.
2 | 4/1/2004-6/31/2004 | September 8, 2004 | September 23, 2004.

Extension of Filing Dates for Nonmajor Electric, Natural Gas and All Oil Pipeline Filers
| Quarterly period | Filing dates for nonmajor electric, nonmajor natural gas, and all oil pipeline respondents in final rule | Filing extension for nonmajor electric, natural gas, and all oil pipeline respondents
1 | 1/1/2004-3/31/2004 | July 23, 2004 | September 3, 2004.
2 | 4/1/2004-6/31/2004 | September 22, 2004 | October 7, 2004.

Magalie R. Salas,
Secretary.

[FR Doc. E4-1436 Filed 6-28-04; 8:45 am]

BILLING CODE 6717-01-P